DEPARTMENT OF DEFENSE

Department of the Navy

Notice of Availability of Government-Owned Inventions; Available for Licensing

AGENCY: Department of the Navy, DoD.

ACTION: Notice of availability for licensing.

SUMMARY: The Department of the Navy (DoN) announces the availability of the inventions listed below, assigned to the United States Government, as represented by the Secretary of the Navy, for domestic and foreign licensing by the Department of the Navy.

ADDRESSES: Requests for copies of the inventions should be directed to Naval Postgraduate School, Research and Sponsored Programs Office, NPS Code 41, 699 Dyer Road, Bldg. HA, Room 226, Monterey, CA 93943.

FOR FURTHER INFORMATION CONTACT: Ms. Deborah Buettner, Director, Research and Sponsored Programs Office, NPS Code 41, 699 Dyer Road, Bldg. HA, Room 226, Monterey, CA 93943, telephone 831-656-7893. Due to U.S. Postal delays, please fax 831-656-2038, email: dbuettne@nps.edu or use courier delivery to expedite response.

SUPPLEMENTARY INFORMATION: The inventions listed below are available for licensing: U.S. Patent Number 6,664,915 entitled “Identification Friend or Foe System Including Short Range UV Shield” issued on December 16, 2003; U.S. Patent Number 7,661,271 entitled “Integrated Electric Gas Turbine” issued on February 16, 2010; U.S. Patent Number 6,600,694 entitled “Digital Signal Processor Based Torpedo Counter-measure” issued on July 29, 2003; U.S. Patent Number 6,820,025 entitled “Method and Apparatus for Motion Tracking of an Articulated Rigid Body” issued on November 16, 2004; U.S. Patent Number 6,717,525 entitled “Tactical Vectoring Equipment (TVE)” issued on April 6, 2004; U.S. Patent Number 6,624,780 entitled “False Target Radar Image Generator for Countering wideband and Imaging Radars” issued on September 23, 2003; U.S. Patent Number 7,725,595 entitled “Embedded Communications System and Method” issued on May 25, 2010; U.S. Patent Number 8,443,101 entitled “Method for Identifying and Blocking Embedded Communications” issued on May 14, 2013; U.S. Patent Number 7,675,198 entitled “Inductive Pulse Forming Network for High-current, High-power Applications” issued on March 9, 2010; U.S. Patent Number 8,018,096 entitled “Inductive Pulse Forming Network for High-current, High-power Applications” issued September 13, 2011; U.S. Patent Number 7,074,697 entitled “Doping-assisted Defect Control in Compound Semiconductors” issued on July 11, 2006; U.S. Patent Number 7,089,148 entitled “Method and Apparatus for Motion Tracking of an Articulated Rigid Body” issued August 8, 2006; U.S. Patent Number 7,627,003 entitled “Automatic Clock Synchronization and Distribution Circuit for Counter Clock Flow Pipelined Systems” issued on December 1, 2009; U.S. Patent Number 8,085,817 entitled “Automatic Clock Synchronization and Distribution Circuit for Counter Clock Flow Pipelined Systems” issued December 27, 2011; U.S. Patent Number 8,019,090 entitled “Active Feedforward Noise Vibration Control System” issued September 13, 2011; U.S. Patent Number 8,064,541 entitled “Hyperphase Shift Keying” issued November 22, 2011; U.S. Patent Number 8,050,849 entitled “Method to Reduce Fuel Consumption by Naval Vessels that Operate in Mixed Propulsion Modes” issued November 1, 2011; U.S. Patent Number 8,006,937 entitled “Spacecraft Docking Interface Mechanism” issued October 12, 2010; U.S. Patent Number 7,811,918 entitled “Electric Current Induced Liquid Metal Flow and Metallic Conformal Coating of Conductive Templates” issued on August 30, 2011; U.S. Patent Number 8,467,548 entitled “Miniature Directional Sound Sensor Using Micro-Electro-Mechanical-System (MEMS)” issued on June 18, 2013; U.S. Patent Number 8,579,535 entitled “Micro-coupling Active Release Mechanism” issued on November 12, 2013; U.S. Patent Number 9,003,627 entitled “Micro-coupling Active Release Mechanism” issued on April 14, 2015; U.S. Patent Number 8,654,672 entitled “Method for Optimal Transmitter Placement in Wireless Mesh Networks” issued on February 18, 2014; U.S. Patent Number 8,473,826 entitled “Hybrid Soft Decision Hard Decision Reed-Solomon Decoding” issued June 25, 2013; U.S. Patent Number 8,433,959 entitled “Method for Determining Hard Drive Contents Through Statistical Drive Sampling” issued on April 30, 2013; U.S. Patent Number 8,446,096 entitled “Terahertz (THz) Reverse Micromagnetron” issued on May 21, 2013; U.S. Patent Number 8,624,497 entitled “Terahertz (THz) Reverse Micromagnetron” issued on January 7, 2014; U.S. Patent Number 8,724,598 entitled “Method for Energy-efficient, Traffic-adaptive, Flow-specific Medium Access For Wireless Networks” issued on May 13, 2014; U.S. Patent Number 8,269,658 entitled “Photonic Analog-to-Digital Conversion Using the Robust Symmetrical Number System” issued on September 18, 2012; U.S. Patent Number 9,194,379 entitled “Field Ionization Based Electrical Space Ion Thruster Using A Permeable Substrate” issued on November 24, 2015; U.S. Patent Number 8,800,930 entitled “Aerial Delivery System with High Accuracy Touchdown” issued on August 12, 2014; U.S. Patent Number 8,730,098 entitled “Method for Radar Detection of Persons Wearing Wires” issued on May 20, 2014; U.S. Patent Number 8,525,393 entitled “Bimaterial Microelectromechanical System (MEMS) Solar Power Generator” issued on September 3, 2013; U.S. Patent Number 8,526,746 entitled “Near Lossless Data Compression Method Using Nonuniform Sampling” issued on September 3, 2013; U.S. Patent Number 8,489,256 entitled “Automatic Parafoil Turn Calculation Method and Apparatus” issued on July 16, 2013; U.S. Patent Number 8,437,891 entitled “Method And Apparatus for Parafoil Guidance That Accounts For Ground Winds” issued on May 7, 2013; U.S. Patent Number 8,818,581 entitled “Parafoil Electronic Control Unit Having Wireless Connectivity” issued on August 26, 2014; U.S. Patent Number 9,331,773 entitled “Instantaneous Wireless Network Established By Simultaneously Descending Parafoils” issued on May 3, 2016; U.S. Patent Number 8,483,891 entitled “Automatically Guided Parafoil Directed to Land on a Moving Target” issued on July 9, 2013; U.S. Patent Number 8,693,365 entitled “Method and Apparatus for State-Based Channel Selection Method in Multi-Channel Wireless Communications Networks” issued on April 8, 2014; U.S. Patent Number 8,810,121 entitled “Method and Device to Produce Hot, Dense, Long-lived Plasmas” issued on August 19, 2014; U.S. Patent Number 8,746,120 entitled “Boosted Electromagnetic Device and Method to Accelerate Solid Metal Slugs to High Speeds” issued on June 10, 2014; U.S. Patent Number 8,878,742 entitled “Dipole with an Unbalanced Microstrip Feed” issued on November 4, 2014; U.S. Patent Number 9,038,958 entitled “Method And Apparatus For Contingency Guidance Of A CMG-Actuated Spacecraft” issued on May 26, 2015; U.S. Patent Number 8,880,246 entitled “Method and Apparatus for Determining Spacecraft Maneuvers” issued on November 4, 2014; U.S. Patent Number 9,248,501 entitled “Method for Additive Manufacturing Using pH and Potential Controlled Powder Solidification” issued on February 2, 2016; U.S. Patent Number 9,234,732 entitled “Explosives Storage System” issued on January 12, 2016; U.S. Patent Number 9,417,044 entitled “Explosives Storage System” issued on August 16, 2016; U.S. Patent Number 9,419,920 entitled “Gateway Router and Method for Application-Aware Automatic Network Selection” issued on August 16, 2016; U.S. Patent Number 9,321,529 entitled “Hybrid Mobile Buoy for Persistent Surface and Underwater Exploration” issued on April 26, 2016; U.S. Patent Number 9,418,080 entitled “Method and System for Mobile Structured Collection of Data and Images” issued on August 16, 2016; U.S. Patent Number 9,489,851 entitled “Landing Signal Officer (LSO) Information Management and Trend Analysis (IMTA) Tool” issued on November 8, 2016; U.S. Patent Number 9,534,863 entitled “Electromagnetic Device and Method to Accelerate Solid Metal Slugs to High Speeds” issued on January 3, 2017; U.S. Patent Number 9,552,391 entitled “Apparatus and Method for Improvised Explosive Device (IED) Network Analysis” issued on January 24, 2017; U.S. Patent Number 9,541,401 entitled “Method and System for Determining Shortest Oceanic Routes” issued on January 10, 2017; U.S. Patent Number 9,457,900 entitled “Multirotor Mobile Buoy for Persistent Surface and Underwater Exploration” issued on October 4, 2016; U.S. Patent Number 9,567,112 entitled “Method and Apparatus for Singularity Avoidance for Control Moment Gyroscope (CMG) Systems Without Using Null Motion” issued on February 14, 2017; U.S. Patent Number 9,594,172 entitled “Solid-state Spark Chamber for Detection of Radiation” issued on March 14, 2017; U.S. Patent Number 9,563,964 entitled “Method for Computer Vision Analysis of Cannon-launched Artillery Video” issued on February 7, 2017; U.S. Patent Number 9,721,352 entitled “Method and Apparatus for Computer Vision Analysis of Cannon-launched Artillery Video” issued on August 1, 2017; U.S. Patent Number 9,727,034 entitled “Unscented Control for Uncertain Dynamical Systems” issued on August 8, 2017; U.S. Patent Number 9,693,325 entitled “Method and Apparatus for Hybrid Time Synchronization Based on Broadcast Sequencing for Wireless Ad Hoc Networks” issued on June 27, 2017; U.S. Patent 9,590,740 entitled “Method and System for Robust Symmetrical Number System (RSNS) Photonic Direction Finding (DF) System” issued on March 7, 2017; U.S. Patent Number 9,530,574 entitled “Super Dielectric Materials” issued on December 27, 2016; U.S. Patent Number 9,788,213 entitled “Method for Interference-Robust Transmitter Placement in Wireless Mesh Networks” issued on October 10, 2017; U.S. Patent Number 9,711,293 entitled “Capacitor with Ionic-solution-infused, Porous, Electrically Non-conductive Material” issued on July 18, 2017; U.S. Patent Number 9,655,077 entitled “Device and Method for Cellular Synchronization Assisted Location Estimation” issued on May 16, 2017; U.S. Patent Number 9,656,733 entitled “Life Preserver Location System” issued on May 23, 2017; U.S. Patent Number 9,705,383 entitled “Light Activated Generator” issued on July 11, 2017.

U.S. Patent Application Number 15/188,505 filed on June 21, 2016, entitled “Method and Apparatus for Guidance and Control of Uncertain Dynamical Systems”; U.S. Patent Application Number 14/833,728 filed on August 24, 2015, entitled “Method and Apparatus for Rapid Acoustic Analysis”; U.S. Patent Application Number 14/810,026 filed on July 27, 2015, entitled “Method and Apparatus for Detection of Hazardous Environmental Conditions and Initiation of Alarm Devices”; U.S. Patent Application Number 14/883,384 filed on October 14, 2015, entitled “Wireless Signal Localization and Collection from an Airborne Symmetric Line Array Network”; U.S. Patent Application Number 14/852,734 filed on September 14, 2015, entitled “Network Monitoring Method Using Phantom Nodes”; U.S. Patent Application Number 14/939,032 filed on November 12, 2015, entitled “Method and Apparatus for Computer Vision Analysis of Spin Rate of Marked Projectiles”; U.S. Patent Application Number 15/208,784 filed on July 13, 2016, entitled “Unscented Optimization and Control Allocation”; U.S. Patent Application Number 15/082,225 filed on March 28, 2016, entitled “Automated Multi-plane Propulsion System”; U.S. Patent Application Number 15/131,733 filed on April 18, 2016, entitled “Multiple Unmanned Aerial Vehicle Launcher System”; U.S. Patent Application Number 15/137,090 filed on April 25, 2016, entitled “Device and Method for Applying Internal Pressure to a Hollow Cylinder”; U.S. Patent Application Number 15/093,047 filed on April 7, 2016, entitled “Light Activated Rotor”; U.S. Patent Application Number 15/207,128 filed on July 11, 2016, entitled “AIGaAs/GaAs Solar Cell with Back-surface Alternating Contacts (GaAs BAC Solar Cell)”; U.S. Patent Application Number 15/453,198 filed on March 8, 2017, entitled “Apparatus and Method for Determining an Orientation of an Inertial/Magnetic Sensor”; U.S. Patent Application Number 15/251,766 filed on August 30, 2016, entitled “High-Altitude Payload Retrieval (HAPR) Apparatus and Methods of Use”; U.S. Patent Application Number 15/239,039 filed on August 17, 2016, entitled “Super Dielectric Capacitor”; U.S. Patent Application Number 15/620,983 filed on June 13, 2017, entitled “Super Dielectric Capacitor Using Scaffold Dielectric”; U.S. Patent Application Number 15/375,279 filed on December 12, 2016, entitled “Method of Electrochemically-Driven Coated Material Synthesis”; U.S. Patent Application Number 15/643,135 filed on July 6, 2017, entitled “Closed-Loop Control System Using Unscented Optimization”; U.S. Patent Application Number 15/427,858 filed on February 8, 2017, entitled “Method and Apparatus for Operation of a Remote Sensing Platform”; U.S. Patent Application Number 15/463,135 filed on March 20, 2017, entitled “Energy Recovery Pulse Forming Network”; U.S. Patent Application Number 15/684,359 filed on August 23, 2017, entitled “Wide Bandgap Semiconductor Device With Vertical Superjunction Edge Termination for the Drift Region”; U.S. Patent Application Number 15/147,568 filed on May 5, 2016, entitled “MEMS Thermal Creep Cantilever”; U.S. Patent Application Number 15/282,460 filed on September 30, 2016, entitled “Emitter-less, Back-surface Alternating Contact Solar Cell”; U.S. Patent Application Number 15/251,035 filed on August 30, 2016, entitled “Chemical Method to Create Metal Films on Metal and Ceramic Substrates”; U.S. Patent Application Number 15/625,103 filed on June 16, 2017, entitled “Chemical Method to Create High Stability Heterogeneous Carbon-bonded Materials”; U.S. Patent Application Number 15/634,079 filed on June 27, 2017, entitled “Direction finding system using two MEMS sound sensors”; U.S. Patent Application Number 15/417,307 filed on January 27, 2017, entitled “Apparatus and Method for Detecting a Multi-homed Device using Clock Skew”; U.S. Patent Application Number 15/479,053 filed on April 4, 2017, entitled ”Front-Facing Fluoroploymer-Coated Armor Composite”; U.S. Patent Application Number 15/593,931 filed on May 12, 2017, entitled “Dynamically Tilting Flat Table to impart a Time-varying Gravity-induced Acceleration on a Floating Spacecraft Simulator”; U.S. Patent Application Number 15/725,025 filed on October 4, 2017, entitled “Systems and Methods for Evaluation of Potentially Irradiated Objects Using Oxygen-17 Detection”; U.S. Patent Application Number 12/460,923 filed on February 26, 2010, entitled “Agile Attitude Control System for Small Spacecraft”; U.S. Patent Application Number 13/374,601 filed on June 22, 2012, entitled “A Method for Amplifying Detonation Power Output By Circumferential Slapper Initiation”; U.S. Patent Application Number 62/452,287 filed on January 31, 2017, entitled “Method and Apparatus for Medium Voltage Pulsed Current Supplies Using Wide Bandgap Solid State Devices”; U.S. Patent Application Number 62/469,377 filed on March 9, 2017, entitled “Methane/Oxygen Rocket Engine with Specific Impulse Enhancement by Hot Helium Infusion”; U.S. Patent Application Number 62/479,381 filed on March 31, 2017, entitled “Phase Coded Time Delayed Transmit-Receive Leakage Cancellation”; U.S. Patent Application Number 62/518,881 filed on June 13, 2017, entitled “System and Method for Determining Position Between Two Locations”; U.S. Patent Application Number 62/528,699 filed on July 5, 2017, entitled “Method for Autonomous Operations of Large-Scale Satellite Constellations and Ground Station Networks”; U.S. Patent Application Number 62/541,364 filed on August 4, 2017, entitled “Low Temperature Metal Printing”; U.S. Patent Application Number 62/554,878 filed on September 6, 2017, entitled “Method and Apparatus for Image-Matching Navigation for Aerial Vehicle”; U.S. Patent Application Number 62/554,871 filed on September 6, 2017, entitled “Game Theoretic Methodology for Locating Camera Towers and Scheduling Surveillance”; U.S. Patent Application Number 62/570,349 filed on October 10, 2017, entitled “Optimal Control and Computational Algorithm for Solving Energy and Fuel-Optimal Routing Problem for a Vehicle Operating in a Time-varying Energy Field”.

Authority: 35 U.S.C. 207, 37 CFR part 404.7

Dated: October 31, 2017.
E.K. Baldini,
Lieutenant Commander, Judge Advocate General's Corps, U.S. Navy, Federal Register Liaison Officer.

[FR Doc. 2017-24064 Filed 11-3-17; 8:45 am]

BILLING CODE 3810-FF-P